DEPARTMENT OF THE INTERIOR

National Park Service

[NPS-WASO-NAGPRA-22723; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum (Burke Museum) has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Burke Museum. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Burke Museum at the address in this notice by March 27, 2017.

ADDRESSES: Peter Lape, Burke Museum, University of Washington, Box 353010, Seattle, WA 98195, telephone (206) 685-3849x2, email plape@uw.edu.

SUPPLEMENTARY INFORMATION: Notice is here given in accordance with the Native American Graves Protection and Repatriation Act (NAGPRA), 25 U.S.C. 3003, of the completion of an inventory of human remains under the control of the Burke Museum, Seattle, WA. The human remains were removed from “Arctic Alaska”.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Burke Museum professional staff in consultation with representatives of the Inupiat Community of the Arctic Slope, the Native Village of Barrow Inupiat Traditional Government, the Native Village of Point Hope, and the North Slope Borough's Department of Inupiat History, Language and Culture, an entity that does not have standing under the law, but assists the tribes and Native Villages with repatriation efforts.

History and Description of the Remains

On an unknown date prior to 1923, human remains representing, at minimum, one individual were removed from an unknown location in the Alaskan Arctic. The original museum catalog ledger information notes these human remains are from “Arctic Alaska”. Based on where the catalog number entry (#3499) falls on the ledger, these human remains were brought to the museum prior to 1923. No known individuals were identified. No funerary objects are present.

These human remains have been determined to be Native American based on geographical and biological information. Archeological and biological information suggest continuity between past populations and the modern Inupiat. These human remains exhibit characteristics of being collected from the surface, including bleaching and lichen adhered to the cranium and mandible. This is consistent with traditional Inupiat burial practices of laying the deceased on the surface or in boxes on the surface. The Inupiat are now members of the Atqasuk Village (Atkasook), Kaktovik Village (a.k.a. Barter Island), Native Village of Nuiqsut (a.k.a. Nooiksut), Native Village of Point Lay, Village of Anaktuvuk Pass, and Village of Wainwright, which are all represented by the Inupiat Community of the Arctic Slope, Native Village of Barrow Inupiat Traditional Government, and Native Village of Point Hope.

Determinations Made by the Burke Museum

Officials of the Burke Museum have determined that:

• Pursuant to 25 U.S.C. 3001(9), the human remains described in this notice represent the physical remains of one individual of Native American ancestry.

• Pursuant to 25 U.S.C. 3001(2), there is a relationship of shared group identity that can be reasonably traced between the Native American human remains and the Inupiat Community of the Arctic Slope, Native Village of Barrow Inupiat Traditional Government, and Native Village of Point Hope.

Additional Requestors and Disposition

Lineal descendants or representatives of any Indian tribe or Native Hawaiian organization not identified in this notice that wish to request transfer of control of these human remains should submit a written request with information in support of the request to Peter Lape, Burke Museum, University of Washington, Box 353010, Seattle, WA 98195, telephone (206) 685-3849 ext 2, email plape@uw.edu, by March 27, 2017. After that date, if no additional requestors have come forward, transfer of control of the human remains to the Inupiat Community of the Arctic Slope, Native Village of Barrow Inupiat Traditional Government, and Native Village of Point Hope may proceed.

The Burke Museum is responsible for notifying the Inupiat Community of the Arctic Slope, Native Village of Barrow Inupiat Traditional Government, and Native Village of Point Hope that this notice has been published.

Dated: January 10, 2017.
Melanie O'Brien,
Manager, National NAGPRA Program.

[FR Doc. 2017-03607 Filed 2-23-17; 8:45 am]

BILLING CODE 4312-52-P